FEDERAL COMMUNICATIONS COMMISSION

[OMB 3060-0484; FR ID 240721]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before September 25, 2024.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-0484.

Title: Part 4 of the Commission's Rules Concerning Disruptions to Communications.

Form Number: N/A.

Type of Review: Revision of a currently approved collection.

Respondents: Business or other for-profit; Not-for-profit institutions; State, Local or Tribal Government.

Number of Respondents and Responses: 3,224 respondents; 201,848 responses.

Estimated Time per Response: 1 hour-2 hours (average per response).

Frequency of Response: On occasion and Annual Reporting Requirements and Recordkeeping Requirement.

Obligation to Respond: Mandatory and Voluntary. Statutory authority for this collection is contained in sections 1, 4(i), 4(j), 4(n), 4(o), 201(b), 214, 218, 251(e)(3), 251(e)(4), 254, 301, 303(b), 303(g), 303(r), 307, 309(a), 309(j), 316, 332, and 403 of the Communications Act of 1934, as amended, and section 706 of the Telecommunications Act of 1996, 47 U.S.C. 151, 154(i)-(j), (n), & (o), 201(b), 214, 218, 251(e)(3), 251(e)(4), 254, 301, 303(b), 303(g), 303(r), 307, 309(a), 332, 403, 615, 615a-1, and 1302.

Total Annual Burden: 398,319 hours.

Total Annual Cost: No Cost.

Needs and Uses: The general purpose of the Commission's Part 4 rules is to gather sufficient information regarding disruptions to telecommunications to facilitate FCC monitoring, analysis, and investigation of the reliability and security of voice, paging, and interconnected Voice over internet Protocol (interconnected VoIP) communications services, and to identify and act on potential threats to our Nation's telecommunications infrastructure. The Commission uses this information collection to identify the duration, magnitude, root causes, and contributing factors with respect to significant outages, and to identify outage trends; support service restoration efforts; and help coordinate with public safety officials during times of crisis. The Commission also maintains an ongoing dialogue with reporting entities, as well as with the communications industry at large, generally regarding lessons learned from the information collection in order to foster a better understanding of the root causes of significant outages and to explore preventive measures in the future so as to mitigate the potential scale and impact of such outages.

In a Second Report and Order adopted on November 18, 2022, as FCC 22-88, the Commission adopted rules harmonizing its 911 special facility notifications rules such that outage notifications from covered 911 service providers and originating service providers (OSPs) will include the same notification content, be transmitted by the same means, and with the same timing and frequency. In addition, in a Report and Order adopted on July 20, 2023, as FCC 23-57. the Commission extended outage reporting and notification requirements to outages affecting 988 special facilities in order to ensure that officials responsible for overseeing the 988 Suicide & Crisis Lifeline (988 Lifeline), which is a 24/7 hotline available to people in suicidal crisis and mental health distress, receive timely and actionable information about 988 service outages. The Commission's existing Part 4 rules allow certain federal, state, and Tribal Nation agencies (Participating Agencies) to access to certain geographically relevant outage reports filed in the Commission's Network Outage Reporting System (NORS).

The information collections and record keeping provisions adopted in the 2022 Second Report and Order will harmonize and standardize 911 outage reporting, which assists 911 special facilities in receiving and responding to service outage notification, and the information we are requiring to be contained in the reports will improve the speed and accuracy of responses to service outages by 911 service providers, which promotes public safety.

The information collections adopted in the 2023 988 Report and Order will allow the Department of Health and Human Services' Substance Abuse and Mental Health Services Administration (SAMHSA), the Department of Veterans Affairs (VA), and the 988 Lifeline administrator, which are the entities responsible for overseeing the 988 Lifeline, to provide the public with notice of outages impacting 988 services, and information how they can access the 988 Lifeline despite the outage. SAMHSA, the VA, and the 988 Lifeline administrator can also take steps to reroute 988 calls to available crisis centers and take other steps to reduce the amount of time that individuals would need to wait before they receive assistance. Notice about outages will allow SAMHSA, the VA, and the Lifeline administrator to continue meeting the immediate health needs of people in suicidal crisis and mental health distress. The Commission will also be able to improve 988 reliability by using this information to analyze outage trends and identify best practices to prevent and mitigate outages.

Federal Communications Commission.
Marlene Dortch,
Secretary, Office of the Secretary.

[FR Doc. 2024-19121 Filed 8-23-24; 8:45 am]

BILLING CODE 6712-01-P